DEPARTMENT OF TRANSPORTATION

National Highway Traffic Safety Administration

[Docket No. NHTSA-2012-0170]

Proposed Collection of Information: Medium- and Heavy-Duty Truck Fleet Survey

AGENCY: National Highway Traffic Safety Administration (NHTSA), Department of Transportation (DOT).

ACTION: Request for public comment on proposed collection of information.

SUMMARY: The National Highway Traffic Safety Administration (NHTSA), on behalf of the Department of Transportation (DOT), invites public comment on our intent to request Office of Management and Budget (OMB) approval to conduct an information collection. This collection of information will be in the form of a one-time survey of medium- and heavy-duty truck fleet managers.

DATES: Comments must be received within 60 days of publication of this notice.

ADDRESSES: You may submit comments [identified by Docket No. NHTSA-2012-0170] through one of the following methods:

• Federal eRulemaking Portal: http://www.regulations.gov. Follow the online instructions for submitting comments.

• Fax: 1 (202) 493-2251.

• Mail or Hand Delivery: Docket Management Facility, U.S. Department of Transportation, 1200 New Jersey Avenue SE., West Building, Room W12-140, Washington, DC 20590, between 9 a.m. and 5 p.m., Monday through Friday, except on Federal holidays.

Instructions: Each submission must include the Agency name and the Docket number for this Notice. Note that all comments received will be posted without changes to http://www.regulations.gov including any personal information provided.

FOR FURTHER INFORMATION CONTACT: James D. MacIsaac Jr., Fuel Economy Division, Office of International Policy, Fuel Economy and Consumer Programs, NVS-132, National Highway Traffic Safety Administration, U.S. Department of Transportation, 1200 New Jersey Avenue SE., Washington, DC 20590. Phone: (202) 366-9108.

SUPPLEMENTARY INFORMATION: Under the Paperwork Reduction Act of 1995, before an agency submits a proposed collection of information to the Office of Management and Budget (OMB) for approval, it must publish a document in the Federal Register providing a 60-day comment period and otherwise consult with members of the public and affected agencies. OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submissions of responses.

In compliance with these requirements, NHTSA seeks public comment on the following proposed collection of information:

Type of Information Collection: New collection.

OMB Control Number: To be issued at time of approval.

Title: Medium- and Heavy-Duty Truck Fleet Survey.

Background: The Energy Independence and Security Act (EISA), enacted on December 19, 2007, mandated that NHTSA set maximum feasible fuel efficiency standards for medium- and heavy-duty (MD/HD) on-highway vehicles and work trucks for each model year (MY), with four full model years of lead time. (49 U.S.C. 32902(k)(2)). On September 15, 2011, NHTSA issued the first fuel efficiency standards for these vehicles, consisting of voluntary standards for MYs 2014-2015 and mandatory standards for MYs 2016-2018 and beyond.

Description of the Need for the Information and Proposed Use of the Information: As the agency develops the next phase of MD/HD standards, it will require a current model year baseline of the Class 2b-8 vehicle fleet, including model configurations, levels of fuel consumption and emissions equipment, current performance, vocations, typical mileage and cargo levels, fuels, and certification choices. This information is critical to efforts to model the fleet and conduct research in support of the next phase of standards. Data with this level of detail, especially the combined vehicle build and usage statistics, are not available from commercial database services. Therefore, it is necessary to survey truck fleet managers to not only baseline the vehicle configurations within the fleet, but also to baseline each vehicle category and subcategory's relative fuel consumption performance.

The results of the survey will serve to inform the public on current model year trucking fleet characteristics, fuel efficiency and emissions technologies, and usage. The survey is part of a larger coordinated research program aimed at informing both the next phase of the fuel efficiency standards, and an upcoming National Academy of Sciences (NAS) study on MD/HD vehicle fuel economy and emissions (per Section 107 of EISA, the NAS MD/HD study is funded by the Department of Transportation and the Academy updates the report at 5 year intervals through 2025).

Description of the Survey: A firm under contract to conduct the proposed survey will identify that it is a USDOT-NHTSA-funded survey and that participation is voluntary. Respondents will be informed that any information they provide will be used only for research and will not be used for sales calls or other commercial purposes. The final report generated from this survey will consist of aggregated results and will not attribute responses to individuals nor divulge any identifying information of the respondents.

The proposed survey will consist of an initial introduction and screening interview by phone, with qualified respondents referred to a web link to complete the main survey online. The proposed online survey will tailor itself to the fleet size and weight class information of each respondent to minimized extraneous questions and length. The proposed survey questions can be found in the docket for this collection, at NHTSA-2012-0170.

Respondents: Fleet managers from the trucking industry.

Estimated Number of Screening Interview Respondents: 2000.

Estimated Number of Survey Respondents: 175.

Estimated Number of Fully Completed Survey Responses: 100.

Estimated Total Annual Burden: 235 hours. NHTSA estimates that 2000 respondents will spend an average of 5 minutes each on the screening interview. Of these 2000 respondents, the agency estimates 175 will be both qualified and willing to complete the online survey. Within the 175 willing respondents, the agency estimates 75 will suspend participation in the survey in the first 15 minutes, and the remaining 100 will spend 30 minutes to fully complete the online survey.

Estimated Frequency: One-time survey.

Public Comments Invited: You are asked to comment on any aspect of this information collection, including (a) whether the proposed collection of information is necessary for the Department's performance, (b) the accuracy of the estimated burden, (c) ways for the Department to enhance the quality, utility and clarity of the information collection and (d) ways that the burden could be minimized without reducing the quality of the collected information. The agency will summarize and/or include your comments in the request for OMB's clearance of this information collection.

Authority: 44 U.S.C. Section 3506(c)(2)(A).

Issued: December 7, 2012.
Christopher J. Bonanti,
Associate Administrator for Rulemaking.

[FR Doc. 2012-30520 Filed 12-18-12; 8:45 am]

BILLING CODE 4910-59-P